DEPARTMENT OF ENERGY

International Energy Agency Meetings

AGENCY: Department of Energy.

ACTION: Notice of meetings.

SUMMARY: The Industry Advisory Board (IAB) to the International Energy Agency (IEA) will meet on October 21, 2014, at the headquarters of the IEA in Paris, France in connection with a joint meeting of the IEA's Standing Group on Emergency Questions (SEQ) and the IEA's Standing Group on the Oil Market (SOM) on the same day, and on October 22, 2014, in connection with a meeting of the SEQ on that day.

DATES: October 21-22, 2014.

ADDRESSES: 9, rue de la Fédération, Paris, France.

FOR FURTHER INFORMATION CONTACT: Diana D. Clark, Assistant General Counsel for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on October 21, 2014, commencing at 9:30 a.m. and at 9:30 a.m. on October 22. The purpose of this notice is to permit attendance by representatives of U.S. company members of the IAB at a joint meeting of the SEQ and the SOM which is scheduled to be held at IEA headquarters on October 21, commencing at 9:30 a.m., and a meeting of the SEQ which is scheduled to be held at the same location on October 22 commencing at 9:30 a.m. The IAB will also hold a preparatory meeting among company representatives at the same location at 8:30 a.m. on October 22. The agenda for this preparatory meeting is to review the agenda for the SEQ meeting. IAB representatives are also invited to participate in a meeting of the Emergency Response Exercise design group at 5:30 p.m. on October 22.

The agenda of the joint SOM and SEQ meeting on October 21 is under the control of the SEQ and the SOM. It is expected that the SEQ and SOM will adopt the following agenda:

1. Adoption of the Agenda

2. Approval of the Summary Record of the June 26, 2014, Joint Session

3. Reports on Recent Oil Market and Policy Developments in IEA Countries

4. Update on OIM Projects and Priorities

5. The Current Oil Market Situation

6. Crises in Iraq and Libya: Consequences for Supply

7. Mexico's Energy Reform

8. The Outlook for Production in Venezuela

9. Key Messages from the Medium-term Renewable Market Report

10. Update on the Ukraine-Russian Standoff and the Natural Gas Market

11. Other Business

—Tentative schedule of upcoming SEQ and SOM meetings:

—February 24-26, 2015 (tentative)

—June 23-25, 2015

—October 13-15, 2015

The agenda of the meeting of the SEQ on October 22 is under the control of the SEQ. It is expected that the SEQ will adopt the following agenda:

1. Adoption of the Agenda

2. Approval of the Summary Record of the 142nd Session

3. Status of Compliance with IEP Stockholding Commitments

4. Emergency Response Review Program

5. Australia Data Mission

6. Mid-term Emergency Response Review Update on Australia

7. Emergency Response Exercise 7 Update

8. Emergency Response Review of New Zealand

9. Gas Security

10. Saving Oil in a Hurry

11. Presentation on Tickets

12. Emergency Response Review of the Czech Republic

13. Outreach

—ERE in China

—APSA/Colombian ERA/Stockholding workshop in Chile

—Energy Community

14. Oral Reports by Administrations

15. Industry Advisory Board Update

16. Other Business

—Tentative schedule of next meetings:

—November 17-18, 2014 (ERE 7)

—February 24-26, 2015 (tbc)

—June 23-25, 2015

—October 13-15, 2015

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, October 8, 2014.
Diana D. Clark,
Assistant General Counsel for International and National Security Programs.

[FR Doc. 2014-24333 Filed 10-10-14; 8:45 am]

BILLING CODE 6450-01-P